DEPARTMENT OF COMMERCE

International Trade Administration

A-552-801

Certain Frozen Fish Fillets from the Socialist Republic of Vietnam: Extension of Time Limit for Preliminary Results of the First Antidumping Duty Administrative Review

AGENCY: Import Administration, International Trade Administration, Department of Commerce.

EFFECTIVE DATE: April 5, 2005.

FOR FURTHER INFORMATION CONTACT: Irene Gorelik or Matthew Renkey, AD/CVD Operations, Office 9, Import Administration, International Trade Administration, U.S. Department of Commerce, 14th Street and Constitution Avenue, NW., Washington, DC 20230; telephone (202) 482-6905 and (202) 482-2312, respectively.

Background

On September 22, 2004, the Department published its notice of initiation of an antidumping administrative review on certain frozen fish fillets from Vietnam. See Initiation of Antidumping and Countervailing Duty Administrative Reviews and Request for Revocation in Part, 69 FR 56745 (September 22, 2004). The Department subsequently received timely withdrawal requests from four of the eight exporters that requested a review: An Giang Fisheries Import and Export Joint Stock Company (October 26, 2004); AFIEX (October 19, 2004); MEKONIMEX (November 5, 2004); and QVD Food Co., Ltd. (September 29, 2004). On January 28, 2005, the Department published a notice of rescission, in part, of antidumping duty administrative review for those companies that filed withdrawal requests. See Certain Frozen Fish Fillets From the Socialist Republic of Vietnam: Rescission, in Part, of Antidumping Duty Administrative Review, 70 FR 4092 (January 28, 2005). The Department is not rescinding its review of Can Tho Agricultural and Animal Products Import-Export Company (CATACO); Phan Quan Company, Ltd.; Phu Thanh Company, Co.; or Vinh Hoan Company, Ltd. On March 16, 2005, the Catfish Farmers of America and individual U.S. catfish processors (collectively, “Petitioners”) submitted a timely request for a 120 day extension of the preliminary results of this review. The preliminary results of this administrative review are currently due no later than May 3, 2005.

Extension of Time Limit for Preliminary Results

Pursuant to section 751(a)(3)(A) of the Tariff Act of 1930, as amended (“the Act”), the Department shall issue preliminary results in an administrative review of an antidumping duty order within 245 days after the last day of the anniversary month of the date of publication of the order. The Act further provides, however, that the Department may extend that 245-day period to 365 days if it determines it is not practicable to complete the review within the foregoing time period. The Department finds that it is not practicable to complete the preliminary results in the administrative review of certain frozen fish fillets from Vietnam within this time limit. Specifically, as noted in the Petitioners' request, there are complex issues related to production processes that requires further analysis. Accordingly, the Department finds that additional time is needed in order to complete these preliminary results.

Section 751(a)(3)(A) of the Act and section 351.213(h)(2) of the Department's regulations allow the Department to extend the deadline for the preliminary results to a maximum of 365 days from the last of the anniversary month of the order. For the reasons noted above, we are extending the time for the completion of the preliminary results of this review until no later than August 31, 2005. The deadline for the final results of the administrative review continues to be 120 days after the publication of the preliminary results.

Dated: March 30, 2005.
Barbara E. Tillman,
Acting Deputy Assistant Secretary for Import Administration.

[FR Doc. E5-1536 Filed 4-4-05; 8:45 am]

BILLING CODE 3510-DS-S